DEPARTMENT OF COMMERCE

International Trade Administration

C-423-809

Stainless Steel Plate in Coils From Belgium: Extension of Time Limit for the Final Results of the Ninth Countervailing Duty Administrative Review

AGENCY: Import Administration, International Trade Administration, Department of Commerce.

FOR FURTHER INFORMATION CONTACT: Alexander Montoro at (202) 482-0238 or Mary Kolberg at (202) 482-1785; AD/CVD Operations, Office 1, Import Administration, International Trade Administration, U.S. Department of Commerce, 14th Street and Constitution Avenue, NW, Washington, DC 20230.

SUPPLEMENTARY INFORMATION:

Background

On June 4, 2009, the Department of Commerce (“Department”) published the preliminary results of the administrative review of the countervailing duty order on stainless steel plate in coils from Belgium, covering the period January 1, 2007, through December 31, 2007. See Stainless Steel Plate in Coils from Belgium: Preliminary Results of Countervailing Duty Administrative Review, 74 FR 26844 (June 4, 2009) (“Preliminary Results”). In the Preliminary Results we stated that we would issue our final results for the countervailing duty administrative review no later than 120 days after the date of publication of the Preliminary Results (i.e., October 2, 2009).

Statutory Time Limits

Section 751(a)(3)(A) of the Tariff Act of 1930, as amended (“the Act”), requires the Department to issue the final results of an administrative review within 120 days of the publication of the Preliminary Results. If it is not practicable to complete the review within the time period, section 751(a)(3)(A) of the Act allows the Department to extend this deadline to a maximum of 180 days.

Extension of Time Limits for Preliminary Results

The Department has determined that completion of the final results of this review within the original time period is not practicable because we issued an interim analysis of a research and development program administered by the Institute for the Promotion of Innovation by Science and Technology in Flanders on September 16, 2009, and need to allow adequate time for interested parties to file case and rebuttal briefs. See Preliminary Results, 74 FR at 26846. Consequently, it is not practicable to complete this review within the original 120-day time limit (i.e., by October 2, 2009). Therefore, the Department is extending the time limit for completion of the final results to not later than November 2, 2009, which is 151 days from the date of publication of the Preliminary Results, in accordance with section 751(a)(3)(A) of the Act.

We are issuing and publishing this notice in accordance with sections 751(a) and 777(i)(1) of the Act.

Dated: September 18, 2009.
John M. Andersen,
Acting Deputy Assistant Secretary for Antidumping and Countervailing Duty Operations.

[FR Doc. E9-23260 Filed 9-24-09; 8:45 am]

BILLING CODE 3510-DS-S